NUCLEAR REGULATORY COMMISSION

[Docket No. 50-247-LA; ASLBP No. 15-942-06-LA-BD01]

Establishment of Atomic Safety and Licensing Board; Entergy Nuclear Operations, Inc.

Pursuant to delegation by the Commission, see 37 FR 28710 (Dec. 29, 1972), and the Commission's regulations, see, e.g., 10 CFR 2.104, 2.105, 2.300, 2.309, 2.313, 2.318, and 2.321, notice is hereby given that an Atomic Safety and Licensing Board (Board) is being established to preside over the following proceeding:

ENTERGY NUCLEAR OPERATIONS, INC.

(Indian Point Nuclear Generating Station, Unit 2)

This proceeding involves an application by Entergy Nuclear Operations, Inc. for a license amendment for Indian Point Nuclear Generating Station, Unit 2, which is located in Westchester County, New York. In response to a notice filed in the Federal Register, see 80 FR 13902, 13905 (Mar. 17, 2015), the State of New York filed a hearing request on May 18, 2015.

The Board is comprised of the following administrative judges:

E. Roy Hawkens, Chairman, Atomic Safety and Licensing Board Panel, U.S. Nuclear Regulatory Commission, Washington, DC 20555-0001

Dr. Gary S. Arnold, Atomic Safety and Licensing Board Panel, U.S. Nuclear Regulatory Commission, Washington, DC 20555-0001

Dr. Sue H. Abreu, Atomic Safety and Licensing Board Panel, U.S. Nuclear Regulatory Commission, Washington, DC 20555-0001

All correspondence, documents, and other materials shall be filed in accordance with the NRC E-Filing rule. See 10 CFR 2.302.

Dated: May 28, 2015.
E. Roy Hawkens,
Chief Administrative Judge, Atomic Safety and Licensing Board Panel, Rockville, Maryland.

[FR Doc. 2015-13505 Filed 6-2-15; 8:45 am]

BILLING CODE 7590-01-P